DEPARTMENT OF ENERGY

Federal Energy Regulatory Commission

Combined Notice of Filings #1

Take notice that the Commission received the following electric corporate filings:

Docket Numbers: EC24-12-000.

Applicants: Tenaska Capital Holdings, LLC, Roundtop Energy LLC, Beaver Dam Energy LLC, Milan Energy LLC, Alpaca Energy LLC, Wolf Run Energy LLC, Oxbow Creek Energy LLC.

Description: Joint Application for Authorization Under Section 203 of the Federal Power Act of Tenaska Capital Holdings, LLC, et al.

Filed Date: 10/24/23.

Accession Number: 20231024-5146.

Comment Date: 5 p.m. ET 11/14/23.

Take notice that the Commission received the following electric rate filings:

Docket Numbers: ER23-1569-002.

Applicants: Yellowbud Solar, LLC.

Description: Tariff Amendment: Response to Deficiency Letter to be effective 5/8/2023.

Filed Date: 10/25/23.

Accession Number: 20231025-5168.

Comment Date: 5 p.m. ET 11/15/23.

Docket Numbers: ER24-198-000.

Applicants: El Paso Electric Company.

Description: 205(d) Rate Filing: Service Agreement No. 355, Simultaneous Exchange with Dynasty or Alternative to be effective 12/31/2023.

Filed Date: 10/24/23.

Accession Number: 20231024-5124.

Comment Date: 5 p.m. ET 11/14/23.

Docket Numbers: ER24-199-000.

Applicants: PJM Interconnection, L.L.C.

Description: Tariff Amendment: Notice of Cancellation of ISA, SA No. 6162; Queue No. AD1-083 to be effective 9/19/2023.

Filed Date: 10/25/23.

Accession Number: 20231025-5053.

Comment Date: 5 p.m. ET 11/15/23.

Docket Numbers: ER24-200-000.

Applicants: PJM Interconnection, L.L.C.

Description: 205(d) Rate Filing: Original ISA and CSA, SA Nos. 7110 and 7111; Queue No. AE2-271 to be effective 9/25/2023.

Filed Date: 10/25/23.

Accession Number: 20231025-5071.

Comment Date: 5 p.m. ET 11/15/23.

Docket Numbers: ER24-201-000.

Applicants: Karbone Energy LLC.

Description: Baseline eTariff Filing: Karbone Energy LLC MBR Application Filing to be effective 11/1/2023.

Filed Date: 10/25/23.

Accession Number: 20231025-5075.

Comment Date: 5 p.m. ET 11/15/23.

Docket Numbers: ER24-202-000.

Applicants: Pacific Gas and Electric Company.

Description: 205(d) Rate Filing: Amendment to Interim Black Start Agreement (RS 234) 2023 to be effective 12/25/2023.

Filed Date: 10/25/23.

Accession Number: 20231025-5082.

Comment Date: 5 p.m. ET 11/15/23.

Docket Numbers: ER24-203-000.

Applicants: Public Service Company of Colorado.

Description: 205(d) Rate Filing: 2023-10-25 Bronco Plains II Amnd 2—643—0.1.0 to be effective 10/26/2023.

Filed Date: 10/25/23.

Accession Number: 20231025-5095.

Comment Date: 5 p.m. ET 11/15/23.

Docket Numbers: ER24-204-000.

Applicants: Pennsylvania Electric Company, PJM Interconnection, L.L.C.

Description: 205(d) Rate Filing: Pennsylvania Electric Company submits tariff filing per 35.13(a)(2)(iii: Penelec Amends 1 CA & 6 ESCA, SA Nos. (5775 6341 6484 6497 6498 6499 6620) to be effective 12/31/9998.

Filed Date: 10/25/23.

Accession Number: 20231025-5108.

Comment Date: 5 p.m. ET 11/15/23.

Docket Numbers: ER24-205-000.

Applicants: Otter Tail Power Company.

Description: 205(d) Rate Filing: Revisions to Operating Services Agreement with CPEC, Service Agreement No. 54 to be effective 1/1/2024.

Filed Date: 10/25/23.

Accession Number: 20231025-5109.

Comment Date: 5 p.m. ET 11/15/23.

Docket Numbers: ER24-206-000.

Applicants: Midcontinent Independent System Operator, Inc., Ameren Illinois Company.

Description: 205(d) Rate Filing: Midcontinent Independent System Operator, Inc. submits tariff filing per 35.13(a)(2)(iii: 2023-10-25_SA 4179 Ameren Illinois-WVPA TIA to be effective 10/15/2023.

Filed Date: 10/25/23.

Accession Number: 20231025-5111.

Comment Date: 5 p.m. ET 11/15/23.

Take notice that the Commission received the following qualifying facility filings:.

Docket Numbers: QF24-73-000.

Applicants: ERY Retail Podium LLC.

Description: Form 556 of ERY Retail Podium LLC.

Filed Date: 10/25/23.

Accession Number: 20231025-5162.

Comment Date: 5 p.m. ET 11/15/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 25, 2023.
Debbie-Anne A. Reese,
Deputy Secretary.

[FR Doc. 2023-23979 Filed 10-30-23; 8:45 am]

BILLING CODE 6717-01-P